DEPARTMENT OF STATE

[Public Notice 12851]

30-Day Notice of Proposed Information Collection: Application for Immigrant Visa and Alien Registration

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to December 19, 2025.

ADDRESSES: Written comments and recommendations for the proposed information collection should be sent within 30 days of publication of this notice to www.reginfo.gov/public/do/PRAMain. Find this information collection by selecting “Currently under 30-day Review—Open for Public Comments” or by using the search function.

SUPPLEMENTARY INFORMATION:

• Title of Information Collection: Application for Immigrant Visa and Alien Registration.

• OMB Control Number: 1405-0185.

• Type of Request: Revision of a currently approved collection.

• Originating Office: CA/VO.

• Form Number: DS-260.

• Respondents: Immigrant Visa Applicants.

• Estimated Number of Respondents: 460,000.

• Estimated Number of Responses: 460,000.

• Average Time per Response: 155 minutes.

• Total Estimated Burden Time: 1,188,333 hours.

• Frequency: Once Per Application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department uses the Electronic Application for Immigrant Visa and Alien Registration (DS-260) to obtain the information needed to fulfill the legal requirements for the issuance of an immigrant visa (IV). The information required on the form is limited to what is necessary for consular officers to determine the eligibility and classification of an individual seeking an IV to the United States. Please note this information collection will no longer seek to renew the paper version of the form (DS-230), which will be discontinued effective November 1, 2025.

Methodology

The DS-260 is submitted electronically over an encrypted connection to the Department via the internet. The applicant will be instructed to print a confirmation page containing a barcoded record locator, which will be physically scanned at the time of processing.

60-Day Comment Period Analysis

The Department published a notice in the Federal Register soliciting public comments for a period of 60 days on July 9, 2025 (90 FR 30543). The Department received four comments before the comment period ended on September 8, 2025, with two being nonresponsive to the collection. Comments are publicly viewable on regulations.gov, and the Department addresses the two responsive comments here:

Comment 1

The American Immigration Lawyers Association (AILA) submitted a comment on behalf of the over 15,000 member attorneys who practice immigration law in the United States. The Department appreciates AILA's thoughtful feedback and has reviewed and addressed recommendations in the space below.

Countries the Applicant Has Visited

AILA recommended rephrasing the question, “Have you traveled to any countries/regions within the last five years?” to clarify that the applicant should not include U.S. travel in that section.

In addressing this suggestion, the Department is first clarifying that the proposed version of the form, which was available for public comment through regulations.gov, included modified language requesting 15 years of address history rather than five. The United States is not an available region or country in this section, and U.S. travel is requested in the form prior to reaching this section. However, since additional clarity may reduce applicant burden, the Department will incorporate this suggestion to the proposed DS-260. The question now reads: “Have you traveled to any countries/regions, other than the United States, within the last fifteen years?”

Security and Fraud Questions

AILA suggested simplifying the language of complex questions to ensure applicants understand their intent and scope.

The Department acknowledges and agrees with the importance of clarity in these questions and is actively engaging in a large-scale modernization project that will address these concerns. The modernization will include technical improvements and plain language rephrasing of these and other questions throughout the form. The Department appreciates AILA's continued patience while it works to improve its systems, as the modernization project cannot be completed in the limited time left in this PRA renewal cycle.

Present and Previous Address Information

AILA proposed requiring only city, state/province, country, and dates for address history, with an option to mark street addresses as “unknown.” While the Department recognizes the challenges applicants may face in recalling detailed address information, particularly for elderly applicants, past addresses are used for multiple purposes beyond police certificate requirements, including fraud prevention and enhanced vetting. At this time, the Department will not implement this suggestion, but it will re-open discussions with vetting partners to determine whether adding an “unknown” checkbox to the address field is possible without significantly impacting U.S. national security interests in the future.

Family Information

AILA recommended rephrasing questions about family members' immigration intentions.

The Department agrees to rephrase these questions and will replace the word “immigrating” with the more specific phrase “applying for a U.S. immigrant visa.”

Additional Work/Education/Training/Travel Information Page

AILA suggested providing additional context to the question, “Have you belonged to, contributed to, or worked for any professional, social, or charitable organization?”

The Department understands AILA's suggestion to be motivated by applicants' possible misunderstanding of the scope of information sought. Due to resource and time constraints, the Department will need to further consider this recommendation as part of the ongoing modernization project.

Security and Background Information

AILA recommended rephrasing the question, “Has the Secretary of Homeland Security of the United States ever determined that you knowingly made a frivolous application for asylum?”

The Department agrees with this recommendation and will revise the form to reference “an immigration judge or Board of Immigration Appeals” instead of “the Secretary of Homeland Security of the United States.”

Signature and Submission

AILA proposed retitling the page, making grammatical adjustments, and including language clarifying that the visa application is not formally made until the consular interview. While the Department is open to considering these changes, these issues will be addressed as part of the aforementioned modernization project.

E-Signature Section

AILA questioned a reference to the Australian Department of Home Affairs (ADHA) and raised privacy and security concerns regarding language about medical examinations and data storage in the eMedical system.

In response to this comment, the Department is revising language to better explain the role that ADHA plays in the eMedical system and clarify its relevance to all applicants subject to medical examination. For greater transparency, the Department also is adding language to better explain how applicants' medical information may be temporarily stored in the eMedical system and providing additional data privacy assurances, as records access by the ADHA is strictly limited to providing technical support to the U.S. government and its designated panel physicians. This language is now included in a new “Medical Examination Disclosure and Consent” subsection, which is separate from the e-signature section where the information currently displays.

Accessibility

AILA highlighted certain technical issues, including timeouts, login errors, and the inability to amend the form post-submission.

The Department's modernization project also aims to address many of these technical challenges, and attempts to resolve these issues are underway.

General Data Collection

AILA advocated for the option to provide explanatory information, either through a tick box next to each question or a stand-alone final page, similar to the overflow sheet option in the old paper DS-230 form.

The Department has determined that these changes are neither necessary nor feasible and will not implement them at this time.

The DS-230 previously contained the following instruction that allowed for an “overflow” sheet: “If there is insufficient room on the form, answer on a separate sheet using the same numbers that appear on the form. Attach any additional sheets to this form.” The intention behind this instruction was to allow applicants to provide required information that did not fit in the limited space provided on the paper form. This included information about additional family members, additional social media, etc. The instruction was not designed to allow applicants to provide explanatory information beyond the explicit information the Department requested. Furthermore, space is not limited in the DS-260, as the e-form allows applicants to select “add another” for questions that might have required an additional sheet when completing the paper form. Applicants wishing to provide explanatory information for responses have the opportunity to do so during the required in-person interview.

Comment 2

The comment expresses “concern for the volume of applications for the registration of individuals applying and the extreme annual cost of $156B” and recommends the Department review the “authenticity and the number of applications” for this collection.

The Department assures the public that every application undergoes adequate vetting. Furthermore, the Department clarifies that the cost to process the DS-260 is not $156 billion, as the comment states, but rather $94,022,024 in federal government expenditures. Consular fees are generally set based on the policy of full cost recovery, which means the full cost is offset by the DS-260 application fee. The net cost to the American taxpayer is $0.

Stuart R Wilson,
Deputy Assistant Secretary for Visa Services, Bureau of Consular Affairs, Department of State.

[FR Doc. 2025-20231 Filed 11-18-25; 8:45 am]

BILLING CODE 4710-05-P